OVERSEAS PRIVATE INVESTMENT CORPORATION

Sunshine Act; Cancellation Notice of Annual Public Hearing

OPIC's Sunshine Act notice of its Annual Public Hearing was published in the Federal Register (Volume 78, Number 17, Page 5516) on January 25, 2013. No requests were received to provide testimony or submit written statements for the record; therefore, OPIC's Annual Public Hearing scheduled for 2 p.m., March 13, 2013 has been cancelled.

CONTACT PERSON FOR INFORMATION: Information on the hearing cancellation may be obtained from Connie M. Downs at (202) 336-8438, via facsimile at (202) 218-0136, or via email at Connie.Downs@opic.gov.

Dated: February 26, 2013.
Connie M. Downs,
OPIC Corporate Secretary.

[FR Doc. 2013-04859 Filed 2-27-13; 11:15 am]

BILLING CODE 3210-01-P